DEPARTMENT OF VETERANS AFFAIRS

Advisory Committee on Structural Safety of Department of Veterans Affairs Facilities, Notice of Meeting

The Department of Veterans Affairs (VA) gives notice under Federal Advisory Committee Act, 5 U.S.C. Ch. 10, that a meeting of the Advisory Committee on Structural Safety of Department of Veterans Affairs Facilities will be held on May 21-22, 2024. The meeting sessions will take place at Room 4E.400, 425 I Street NW, Washington, DC 20001. The meeting sessions will begin and end as follows:

Dates | Times | Open session
May 21, 2024 | 9:00 a.m. to 5:00 p.m. EST | Yes.
May 22, 2024 | 9:00 a.m. to 12:00 p.m. EST | Yes.

The meeting sessions are open to the public.

The purpose of the Committee is to advise the Secretary of Veterans Affairs on matters of structural safety in the construction and remodeling of VA facilities and to recommend standards for use by VA in the construction and alteration of its facilities.

The meeting will be hybrid, held in-person and virtual, and the Committee will receive appropriate briefings and presentations on current seismic, natural hazards, and fire safety issues that are particularly relevant to facilities owned and leased by the Department. The Committee will also discuss appropriate structural and fire safety recommendations for inclusion in VA's construction standards.

The public may engage the Committee in writing or through oral presentation. To participate orally, please contact Donald Myers, Director, Facilities Standards Service, Office of Construction & Facilities Management (003C2B), Department of Veterans Affairs, at donald.myers@va.gov or at 202-632-5388. In the communication, writers must identify themselves and state the organization, association, or person(s) they represent. For any members of the public that wish to attend virtually, they may use the Webex link or call in with the phone number and access code below:

May 21: https://veteransaffairs.webex.com/veteransaffairs/j.php?MTID=mf0ecb43ce5beda7d12db46f564cf9e88, Meeting number (access code): 2820 061 6231, Meeting password: cM2iGiec@43, or to join by phone (audio only): +14043971596,,28200616231## or +12122313802,,28200616231##.

May 22: https://veteransaffairs.webex.com/veteransaffairs/j.php?MTID=m1e8ddc6e6119fbaed6ce9fc75ac2d934, Meeting number (access code): 2824 298 3443, Meeting password: MNg5A8EEZ$2, or to join by phone (audio only): +14043971596,,28242983443## or +12122313802,,28242983443##.

Because the meeting is being held in a government building, a photo I.D. must be presented at the Guard's Desk as a part of the screening process. Due to an increase in security protocols, you should allow an additional 30 minutes before the meeting begins. Those seeking additional information or wishing to attend should contact Mr. Myers at the email address noted above or via phone at 202-632-5388.

Dated: April 25, 2024.
Jelessa M. Burney,
Federal Advisory Committee Management Officer.

[FR Doc. 2024-09311 Filed 4-29-24; 8:45 am]

BILLING CODE 8320-01-P